DEPARTMENT OF THE INTERIOR

National Park Service

[NPS-WASO-NRNHL-12533; PPWOCRADI0, PCU00RP14.R50000]

National Register of Historic Places; Notification of Pending Nominations and Related Actions

Nominations for the following properties being considered for listing or related actions in the National Register were received by the National Park Service before March 2, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 8, 2013. Before including your address, phone number, email address, or other personal identifying information in your comment, you should be aware that your entire comment—including your personal identifying information—may be made publicly available at any time. While you can ask us in your comment to withhold your personal identifying information from public review, we cannot guarantee that we will be able to do so.

Dated: March 8, 2013.
J. Paul Loether,
Chief, National Register of Historic Places/National Historic Landmarks Program.

CALIFORNIA

Los Angeles County

Southern California Sanitarium Historic District, 2900 E. Del Mar Blvd., Pasadena, 13000160

Orange County

Huntington Beach Public Library on Triangle Park, 525 Main St., Huntington Beach, 13000157

Santa Clara County

Rhoades Ranch, 2290-A Chochrane Rd., Morgan Hill, 13000158

COLORADO

Larimer County

Bingham Homestead Rural Historic Landscape, 4916 Bingham Hill Rd. (County Rd 50E), Bellvue, 13000161

CONNECTICUT

Litchfield County

Lakeville Manor, 12 Elm St.; 33 Sharon Rd., Lakeville, 13000159

Windham County

Temple Beth Israel, 39 Killingly Dr., Danielson, 13000162

FLORIDA

De Soto County

Johnson—Smith House, 1519 N. Arcadia Ave., Arcadia, 13000163

Pinellas County

Henry, James, House, 950 12th St., N., St. Petersburg, 13000164

KANSAS

Douglas County

Kibbee Farmstead, (Agriculture-Related Resources of Kansas MPS) 1500 Haskell Ave., Lawrence, 13000165

University of Kansas Historic District, Roughly bounded by W Campus Rd., S edge of Jayhawk Blvd., Sunnyside Ave., Lilac Ln., Oread Ave., and W. 13th St., Lawrence, 13000167

Wyandotte County

Welborn Community Congregational Church, 5217 Leavenworth Rd., Kansas City, 13000166

MAINE

Penobscot County

Phi Gamma Delta House, 79 College Ave., Orono, 13000169

York County

Saco Central Fire Station, 14 Thorton Ave., Saco, 13000168

MASSACHUSETTS

Hampshire County

Center Cemetery, 178 College Hwy (Rte 10), Southhampton, 13000170

MISSOURI

Boone County

Frederick Apartments, 1001 University Ave., Columbia, 13000172

Newton County

Neosho Wholesale Grocery Company, 224 N. Washington St., Neosho, 13000171

OHIO

Meigs County

Buffington Island Battlefield (Boundary Increase), Roughly bounded by E. bank of Ohio R., Dry Run Creek, a ridgeline, and Laucks Run, Portland, 13000173

RHODE ISLAND

Washington County

Anthony—Kinney Farm, 505 Point Judith Rd., Narragansett, 13000178

TEXAS

Camp County

Pittsburg Commercial Historic District, Along Marshall, Quitman, Jefferson, Church, and College Sts., roughly from Cypress St. to North St., Pittsburg, 13000175

Colorado County

Spanish Trail (Old) from US 90 to I-10, Cty. Rd. 268 bet US 90 and N. access road of I-1O, Columbus, 13000176

La Salle County

Cotulla Downtoun Historic District, Roughly bounded by Kerr, Tilden, Market and Carrizon Sts., Cotulla, 13000177

WEST VIRGINIA

Jackson County

Buffington Island Battlefield (Boundary Increase), Roughly bounded by Ohio River, Dry Run Creek, a ridgeline and Laucks Run, Portland, 13000174

[FR Doc. 2013-06569 Filed 3-21-13; 8:45 am]

BILLING CODE 4312-51-P